DEPARTMENT OF HEALTH AND HUMAN SERVICES

Health Resources and Services Administration

HRSA AIDS Advisory Committee; Notice of Meeting

In accordance with section 10(a)(2) of the Federal Advisory Committee Act(Pub. L. 92-463), announcement is made of the following National Advisory body scheduled to meet during the month of June 2001.

Name: HRSA AIDS Advisory Committee (HAAC).

Date and Time: June 4, 2001; 8:30 a.m.—5 p.m.

Place: Centers for Disease Control and Prevention; Corporate Square; Corporate Blvd., Building 8, first floor; Atlanta, Georgia 30329; Telephone: (404) 639-8008.

Date and Time: June 5, 2001; 8:30 a.m.—3:30 p.m.

Place: Outreach, Inc.; 825 Cascade Ave., SW; Atlanta, GA 30311; Telephone: (404) 755-6700.

The meeting is open to the public.

Agenda: Agenda items for the meeting include a discussion of HIV prevention and care linkages with the Centers for Disease Control and Prevention's Advisory Committee on HIV and STD Prevention and rural issues.

Anyone requiring further information should contact Joan Holloway, HIV/AIDS Bureau, Parklawn Building, Room 7-13, 5600 Fishers Lane, Rockville, Maryland 20857, Telephone (301) 443-5761.

Dated: April 18, 2001.
Jane Harrison,
Director, Division of Policy Review and Coordination.

[FR Doc. 01-10229 Filed 4-24-01; 8:45 am]

BILLING CODE 4160-15-P